DEPARTMENT OF ENERGY

Secretary of Energy Advisory Board; Notice of Open Teleconference Meeting

AGENCY: Department of Energy.

SUMMARY: This notice announces an open teleconference meeting of the Secretary of Energy Advisory Board. The Federal Advisory Committee Act (Pub. L. 92-463, 86 Stat. 770), requires that agencies publish these notices in the Federal Register to allow for public participation. The purpose of the teleconference is to discuss the interim findings and recommendations of the Secretary of Energy Advisory Board's Nuclear Weapons Complex Infrastructure Task Force.

Note: Copies of the draft final report of the Nuclear Weapons Complex Infrastructure Task Force may be obtained from the following Internet address http://www.seab.energy.gov/news.htm or by contacting the Office of the Secretary of Energy Advisory Board at (202) 586-7092.

Name: Secretary of Energy Advisory Board.

DATES: Tuesday, October 4, 2005, 1:30 p.m.-3 p.m., Eastern Daylight Standard Time.

ADDRESSES: Participants may call the Office of the Secretary of Energy Advisory Board at (202) 586-7092 to reserve a teleconference line and receive a call-in number, or to preregister for public comment. Public participation is welcome. However, the number of teleconference lines are limited and are available on a first come basis.

FOR FURTHER INFORMATION CONTACT: Mr. Richard Burrow, Deputy Director and Acting Executive Director, Secretary of Energy Advisory Board (AB-1), U.S. Department of Energy, 1000 Independence Avenue, SW., Washington, DC 20585, (202) 586-7092 or (202) 586-6279 (fax).

SUPPLEMENTARY INFORMATION: The purpose of the Secretary of Energy Advisory Board (The Board) is to provide the Secretary of Energy with essential independent advice and recommendations on issues of national importance. The Board and its subcommittees provide timely, balanced, and authoritative advice to the Secretary of Energy on the Department's management reforms, research, development, and technology activities, energy and national security responsibilities, environmental cleanup activities, and economic issues relating to energy. During the open teleconference meeting the Board will discuss the interim findings and recommendations of the Nuclear Weapons Complex Infrastructure Task Force. The Nuclear Weapons Complex Infrastructure Task Force, a subcommittee of the Secretary of Energy Advisory Board, was formed to provide the Board and the Secretary of Energy with an independent assessment leading to options and recommendations to modernize, consolidate, and, where possible, to reduce costs of the infrastructure and facilities across the nuclear weapons complex based upon recent stockpile reductions and new security Design Basis Threat requirements.

On October 4th, the Board will conduct a teleconference to discuss the findings and recommendations contained in the draft final report of the Nuclear Weapons Complex Infrastructure Task Force.

Tentative Agenda

Tuesday, October 4, 2005.

1:30 p.m.-1:40 p.m. Welcome & Opening Remarks—Mr. M. Peter McPherson, Chairman of the Secretary of Energy Advisory Board.

1:40 p.m.-2 p.m. Overview of the Nuclear Weapons Complex Infrastructure (NWCI) Task Force's draft Findings and Recommendations—Dr. David O. Overskei, NWCI Task Force Chairman.

2 p.m.-2:30 p.m. Public Comment Period.

2:30 p.m.-3 p.m. Board Review & Comment and Action—Mr. M. Peter McPherson, Chairman of the Secretary of Energy Advisory Board.

3 p.m. Adjourn.

This agenda is tentative and subject to change.

Public Participation: In keeping with procedures, members of the public are welcome to observe the business of the Secretary of Energy Advisory Board and submit advance written comments or comment during the scheduled public comment period. The Chairman of the Board is empowered to conduct the meeting in a fashion that will, in the Chairman's judgment, facilitate the orderly conduct of business. During its open teleconference meeting, the Board welcomes public comment. Members of the public will be heard in the order in which they have registered for public comment at the beginning of the meeting. The Board will make every effort to hear the views of all interested parties. You may also submit written comments in advance of the meeting to Richard Burrow, Deputy Director, Secretary of Energy Advisory Board, AB-1, U.S. Department of Energy, 1000 Independence Avenue, SW., Washington, DC 20585. Advance written comments should be received by the Board no later than September 27, 2005.

Minutes: A copy of the minutes and a transcript of the open teleconference meeting will be made available for public review and copying approximately 30 days following the meeting at the Freedom of Information Public Reading Room, 1E-190 Forrestal Building, 1000 Independence Avenue, SW., Washington, DC, between 9 a.m. and 4 p.m., Monday through Friday except Federal holidays. Further information on the Secretary of Energy Advisory Board and its subcommittees may be found at the Board's Web site, located at http://www.seab.energy.gov/.

Issued at Washington, DC, on September 13, 2005.
Rachel M. Samuel,
Deputy Advisory Committee Management Officer.

[FR Doc. 05-18560 Filed 9-16-05; 8:45 am]

BILLING CODE 6450-01-P